DEPARTMENT OF AGRICULTURE

Animal and Plant Health Inspection Service

9 CFR Part 93

[Docket 99-071-2]

Cattle from Australia and New Zealand; Testing Exemption; Notice of Public Hearing

AGENCY: Animal and Plant Health Inspection Service, USDA.

ACTION: Proposed rule; notice of public hearing.

SUMMARY: We are advising the public that we are hosting a public hearing on our proposal to exempt cattle imported from Australia from testing for brucellosis and tuberculosis and to exempt cattle imported from New Zealand from testing for brucellosis. The purpose of the public hearing is to give persons an opportunity for the oral presentation of data, views, and arguments regarding the proposed rule.

DATES: We invite you to comment on Docket No. 99-071-1. We will consider all comments that we receive by June 19, 2001. We will also consider comments made at the public hearing that will be held in Riverdale, MD, on June 19, 2001. The hearing will be held from 8:30 a.m. to noon.

ADDRESSES: Please send four copies of your comment (an original and three copies) to: Docket No. 99-071-1, Regulatory Analysis and Development, PPD, APHIS, Suite 3C03, 4700 River Road Unit 118, Riverdale, MD 20737-1238.

Please state that your comment refers to Docket No. 99-071-1.

You may read any comments that we receive on Docket No. 99-071-1 in our reading room. The reading room is located in room 1141 of the USDA South Building, 14th Street and Independence Avenue SW., Washington, DC. Normal reading room hours are 8 a.m. to 4:30 p.m., Monday through Friday, except holidays. To be sure someone is there to help you, please call (202) 690-2817 before coming.

The public hearing will be held on Tuesday, June 19, 2001, in Conference Rooms C and D, USDA Center, 4700 River Road, Riverdale, MD.

FOR FURTHER INFORMATION CONTACT: Dr. Andrea Morgan, Associate Director, Animal Health Programs, VS, APHIS, 4700 River Road Unit 33, Riverdale, MD 20737-1231; (301) 734-8093.

SUPPLEMENTARY INFORMATION: On April 20, 2001, we published in the Federal Register (66 FR 20211-20213, Docket No. 99-071-1) a proposed rule to amend the animal importation regulations to exempt cattle from Australia from testing for brucellosis and tuberculosis prior to their export to the United States and to exempt cattle from New Zealand from testing for brucellosis prior to their export to the United States. The comment period for the proposed rule ends June 19, 2001.

In response to a request that we provide interested persons with an opportunity for the oral presentation of data, views, and arguments, we have scheduled a public hearing. The hearing will be held on Tuesday, June 19, 2001, in Conference Rooms C and D, USDA Center, 4700 River Road, Riverdale, MD.

A representative of the Animal and Plant Health Inspection Service (APHIS) will preside at the public hearing. Any interested person may appear and be heard in person, by attorney, or by other representative. If you wish to speak at the meeting, please register at the meeting room between 8:00 a.m. and 8:30 a.m., before the meeting officially begins. The presiding officer will call speakers in the order in which they registered.

The public hearing will begin at 8:30 a.m. and is scheduled to end at noon. However, the hearing may be terminated at any time after it begins if all persons desiring to speak have been heard. We ask that anyone who reads a statement provide two copies to the presiding officer at the hearing.

If the number of speakers at the hearing warrants it, the presiding officer may limit the time for each presentation so that everyone wishing to speak has the opportunity.

The purpose of the hearing is to give interested persons an opportunity for the oral presentation of data, views, and arguments. Questions about the content of the proposed rule may be part of the commenters' oral presentations. However, neither the presiding officer nor any other representative of APHIS will respond to comments at the hearing, except to clarify or explain provisions of the proposed rule.

If you require special accommodations, such as a sign language interpreter, please contact the person listed under FOR FURTHER INFORMATION CONTACT.

Parking and Security Procedures

Please note that a fee of $2 is required to enter the parking lot at the USDA Center. The machine accepts $1 bills or quarters.

Upon entering the building, visitors should inform security personnel that they are attending the public hearing regarding testing requirements for cattle imported from Australia and New Zealand. Identification is required. Security personnel will direct visitors to the registration tables located outside of Conference Rooms C and D. Registration upon arrival is necessary for all participants. Visitor badges must be worn throughout the day.

Done in Washington, DC, this 29th day of May 2001 .
Craig A. Reed,
Administrator, Animal and Plant Health Inspection Service.

[FR Doc. 01-13912 Filed 6-1-01; 8:45 am]

BILLING CODE 3410-34-U